DEPARTMENT OF ENERGY

Federal Energy Regulatory Commission

Notice of Draft License Application and Preliminary Draft Environmental Assessment and Request for Preliminary Terms and Conditions

January 27, 2005.

Take notice that the following hydroelectric application has been filed with the Commission and is available for public inspection:

a. Type of Application: New major license.

b. Project No.: 2219-013.

c. Applicant: Garkane Energy Cooperative, Inc. (Garkane).

d. Name of Project: Boulder Creek Hydroelectic Project.

e. Location: On Boulder Creek about 6 miles north of the town of Boulder in Garfield County, Utah. About 31.74 acres are located on the Dixie National Forest.

f. Applicant Contact: John Spendlove, P.E., Jones and DeMille Engineering, 1535 South 100 West, Richfield, UT 84710; (435) 896-8266.

g. FERC Contact: Dianne Rodman (202) 502-6077, e-mail: Dianne.rodman@ferc.gov.

h. Garkane mailed a copy of the Preliminary Draft Environmental Assessment (PDEA) and draft application to interested parties on January 13, 2005. The PDEA and draft application were filed on January 18, 2005.

i. With this notice we are soliciting preliminary terms, conditions, and recommendations on the PDEA and draft license application. All comments on the PDEA and draft license application should be sent to the address above in item (f) with one copy filed with the Commission at the following address: Federal Energy Regulatory Commission, Magalie R. Salas, Secretary, 888 First St., NE., Washington, DC 20426. All comments must include the project name and number, and bear the heading “Preliminary Comments,” Preliminary Recommendations,” “Preliminary Terms and Conditions,” or “Preliminary Prescriptions.” Any party interested in commenting must do so before April 1, 2005.

j. Comments and preliminary recommendations, terms and conditions, and prescriptions may be filed electronically via the Internet in lieu of paper. See 18 CFR 385.2001(a)(1)(iii) and the instructions on the Commission's Web site (http://www.ferc.gov) under the “e-Filing” link.

k. With this notice, we are initiating consultation with the State Historic Preservation Officer (SHPO), as required by section 106, National Historic Preservation Act, and the regulations of the Advisory Council on Historic Preservation, 36 CFR 800.4.

l. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

The PDEA and draft application are also available upon the Web site http://www.jonesanddemille.com.

Magalie R. Salas,
Secretary.

[FR Doc. E5-422 Filed 2-3-05; 8:45 am]

BILLING CODE 6717-01-P